COMMITTEE FOR PURCHASE FROM PEOPLE WHO ARE BLIND OR SEVERELY DISABLED

Procurement List; Deletions

AGENCY: Committee for Purchase From People Who Are Blind or Severely Disabled.

ACTION: Additions to the Procurement List.

SUMMARY: This action deletes products and service(s) from the Procurement List that were furnished by nonprofit agencies employing persons who are blind or have other severe disabilities.

DATES: Date added to and deleted from the Procurement List: December 21, 2025.

ADDRESSES: Committee for Purchase From People Who Are Blind or Severely Disabled, 355 E Street SW, Suite 325, Washington DC, 20024.

FOR FURTHER INFORMATION CONTACT: For further information or to submit comments contact: Michael R. Jurkowski, Telephone: (703) 489-1322, or email CMTEFedReg@AbilityOne.gov.

SUPPLEMENTARY INFORMATION:

Deletions

On September 11, 2025 (90 FR 44051) and September 25, 2025 (90 FR 46186), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 8520-01-522-0831—Refill, Soap, Antibacterial, 2000 mL

Authorized Source of Supply: Travis Association for the Blind, Austin, TX

Contracting Activity: GSA/FSS GREATER SOUTHWEST ACQUISITI

NSN(s)—Product Name(s): 7210-00-682-6503—Mattress, Foam, Polyurethane, Cotton Ticking, Blue Stripes, 75″ L x 38″ W x 4″ H

Authorized Source of Supply: Lions Volunteer Blind Industries, Inc., Morristown, TN

Contracting Activity: GSA/FSS GREATER SOUTHWEST ACQUISITI

NSN(s)—Product Name(s):

8465-01-656-1719—Belt, Individual Equipment, LC-1, Olive Drab, No U.S. Markings, Medium

8465-01-656-1721—Belt, Individual Equipment, LC-1, Olive Drab, No U.S. Markings, Large

Authorized Source of Supply: Mississippi Industries for the Blind, Inc., Jackson, MS

Authorized Source of Supply: Winston-Salem Industries for the Blind, Inc., Winston-Salem, NC

Contracting Activity: DLA TROOP SUPPORT

NSN(s)—Product Name(s):

8415-00-782-2948—Trousers, Cold Weather Water Repellent, Army, Green, XSR

8415-01-099-7853—Trousers, Cold Weather Water Repellent, Army, Printed Black, Brown and Green Camouflage, XSR

8415-01-099-7854—Trousers, Cold Weather Water Repellent, Army, Printed Black, Brown and Green Camouflage, SR

8415-01-099-7855—Trousers, Cold Weather Water Repellent, Army, Printed Black, Brown and Green Camouflage, SR

8415-01-099-7856—Trousers, Cold Weather Water Repellent, Army, Printed Black, Brown and Green Camouflage, SL

8415-01-099-7857—Trousers, Cold Weather Water Repellent, Army, Printed Black, Brown and Green Camouflage, MS

8415-01-099-7858—Trousers, Cold Weather Water Repellent, Army, Printed Black, Brown and Green Camouflage, MR

8415-01-099-7859—Trousers, Cold Weather Water Repellent, Army, Printed Black, Brown and Green Camouflage, ML

8415-01-099-7860—Trousers, Cold Weather Water Repellent, Army, Printed Black, Brown and Green Camouflage, LR

8415-01-099-7861—Trousers, Cold Weather Water Repellent, Army, Printed Black, Brown and Green Camouflage, LL

8415-01-099-7862—Trousers, Cold Weather Water Repellent, Army, Printed Black, Brown and Green Camouflage, XLL

8415-01-100-0977—Trousers, Cold Weather Water Repellent, Army, Printed Black, Brown and Green Camouflage, XLR

Authorized Source of Supply: Goodwill Industries of South Florida, Inc., Miami, FL

Contracting Activity: DLA TROOP SUPPORT

NSN(s)—Product Name(s): 8465-01-012-9174—Clipboard, Pilots

Authorized Source of Supply: Human Technologies Corporation, Utica, NY

Contracting Activity: DLA TROOP SUPPORT

NSN(s)—Product Name(s):

9905-01-661-2144—Flag, Marking, 2-1/2″ x 3-1/2″, 21″ Staff, Fluorescent Pink

9905-01-661-2145—Flag, Marking, 2-1/2″ x 3-1/2″, 21″ Staff, Orange

9905-01-661-2149—Flag, Marking, 2-1/2″ x 3-1/2″, 21″ Staff, Orange

9905-01-661-2153—Flag, Marking, 2-1/2″ x 3-1/2″, 21″ Staff, Yellow

Authorized Source of Supply: West Texas Lighthouse for the Blind, San Angelo, TX

Contracting Activity: GSA/FSS GREATER SOUTHWEST ACQUISITI

NSN(s)—Product Name(s): 8465-01-012-9174—Clipboard, Pilots

Authorized Source of Supply: Human Technologies Corporation, Utica, NY

Contracting Activity: DLA TROOP SUPPORT

NSN(s)—Product Name(s):

7510-01-484-1745—Binder, Round Ring, Polyethylene, Flexible, Blue, 2″ Capacity, Letter Size

7510-01-511-4320—Binder, Round Ring, Pockets, Gray, 3″ Capacity, Letter Size

7510-01-519-4363—Binder, Round Ring, Clear Overlay, Pockets, Green, 1 1/2″ Capacity, Letter Size

Authorized Source of Supply: South Texas Lighthouse for the Blind, Corpus Christi, TX

Contracting Activity: GSA/FAS ADMIN SVCS ACQUISITION BR(2

Contracting Activity: DEPARTMENT OF VETERANS AFFAIRS, STRATEGIC ACQUISITION CENTER

NSN(s)—Product Name(s):

7045-01-568-4203—USB Flip Drive, Water Resistant, Silver/Black, 2GB

7045-01-568-4204—USB Flip Drive, Water Resistant, Silver/Black, 4GB

7045-01-568-4208—USB Flash Drive, 256-Bit SES Encryption, Water Resistant, Silver/Black, 2GB

7045-01-568-4209—USB Flash Drive, 256-Bit SES Encryption, Water Resistant, Silver/Black, 4GB

Authorized Source of Supply: North Central Sight Services, Inc., Williamsport, PA

Contracting Activity: GSA/FAS ADMIN SVCS ACQUISITION BR(2

NSN(s)—Product Name(s):

7045-01-406-5391—Compact Disc, Recordable, Gold, BX/25

7045-01-429-3462—Compact Disc, Recordable, Gold, Sleeves and Mailers

Authorized Source of Supply: North Central Sight Services, Inc., Williamsport, PA

Contracting Activity: DLA TROOP SUPPORT

Service(s)

Service Type: Messenger Services

Mandatory for: DHS CBP, Area Port St. Thomas, USVI

Contracting Activity: U.S. CUSTOMS AND BORDER PROTECTION, BORDER ENFORCEMENT CTR DIV

Service Type: Mailroom Operation

Mandatory for: U.S. Customs Indianapolis Center: 6026 Lakeside Boulevard

Contracting Activity: U.S. CUSTOMS AND BORDER PROTECTION, ADMIN FACILITIES TRAINING CTR DIV

Service Type: Base Supply Center

Mandatory for: Forbes Field Air National Guard Base, Topeka, KS

Contracting Activity: DEPT OF THE ARMY, W7M9 USPFO ACTIVITY KSANG 190

Service Type: BSC/IEE/Hazmat

Mandatory for: Forbes Field, KS

Contracting Activity: DOD/DEPARTMENT OF THE AIR FORCE

Service Type: Custodial Services

Mandatory for: USMA, Child Development Center, West Point, NY

Contracting Activity: DEPT OF THE ARMY, W6QM MICC-WEST POINT

Service Type: Administrative Services

Mandatory for: US Customs and Border Protection, Calexico SENTRI Enrollment Center, Area Port of Calexico, Calexico, CA

Contracting Activity: U.S. CUSTOMS AND BORDER PROTECTION, BORDER ENFORCEMENT CTR DIV

Service Type: Janitorial/Custodial

U.S. Army Reserve Center: 4301 Goodfellow Boulevard, Center #3

Mandatory for: U.S. Army Reserve Center: 4301 Goodfellow Boulevard, Center #3

Contracting Activity: DEPT OF THE ARMY, W6QM MICC FT MCCOY (RC)

Service Type: Custodial

Mandatory for: FAA, EWR TSS Room, North Cargo Bldg 157, Liberty International Airport, Newark, NJ

Contracting Activity: FEDERAL AVIATION ADMINISTRATION, 697DCK REGIONAL ACQUISITIONS SVCS

Service Type: Embroidery of USAF Service Name Tapes & Emboss

Mandatory for: Lackland Air Force Base

Contracting Activity: DEPT OF THE AIR FORCE, FA7014 AFDW PK

Service Type: Janitorial/Custodial

Mandatory for: GSA PBS Region 5, Eau Claire Federal Building and US Courthouse, Eau Claire, WI

Contracting Activity: GENERAL SERVICES ADMINISTRATION, PBS R5

Service Type: Laundry/Dry Cleaning

Mandatory for: US Army, Fort Johnson, 2038 9th Street Bldg 1352, Fort Johnson, LA

Contracting Activity: DEPT OF THE ARMY, W6QM MICC-FT JOHNSON

Service Type: Admin Services for FPS in San Francisco and Los Angeles

Mandatory for: DHS, FPS, Region 9, Federal Protective Service, Reno, NV

Contracting Activity: DEPT OF HOMELAND SECURITY, FPS WEST CCG

Michael R. Jurkowski,
Director, Business Operations.

[FR Doc. 2025-21466 Filed 11-26-25; 8:45 am]

BILLING CODE 6353-01-P